DEPARTMENT OF HOMELAND SECURITY

Federal Emergency Management Agency

Amendment to Notices of Emergency Declarations

AGENCY: Federal Emergency Management Agency, Department of Homeland Security.

ACTION: Notice.

SUMMARY: This notice amends the notices of emergency declarations for 44 States and the District of Columbia granted due to the influx of evacuees from areas struck by Hurricane Katrina.

EFFECTIVE DATE: October 1, 2005.

FOR FURTHER INFORMATION CONTACT: Magda Ruiz, Recovery Division, Federal Emergency Management Agency, Washington, DC 20472, (202) 646-2705.

SUPPLEMENTARY INFORMATION: Notice is hereby given that the incident periods for the following emergencies are closed effective October 1, 2005:

Arkansas (FEMA-3215-EM), Texas (FEMA-3216-EM), Tennessee (FEMA-3217-EM), Georgia (FEMA-3218-EM), Oklahoma (FEMA-3219-EM), Florida (FEMA-3220-EM), West Virginia (FEMA-3221-EM), North Carolina (FEMA-3222-EM), Utah (FEMA-3223-EM), Colorado (FEMA-3224-EM), Michigan (FEMA-3225-EM), District of Columbia (FEMA-3226-EM), Washington (FEMA-3227-EM), Oregon (FEMA-3228-EM), New Mexico (FEMA-3229-EM), Illinois (FEMA-3230-EM), Kentucky (FEMA-3231-EM), Missouri (FEMA-3232-EM), South Carolina (FEMA-3233-EM), South Dakota (FEMA-3234-EM), Pennsylvania (FEMA-3235-EM), Kansas (FEMA-3236-EM), Alabama (FEMA-3237-EM), Indiana (FEMA-3238-EM), Iowa (FEMA-3239-EM), Virginia (FEMA-3240-EM), Arizona (FEMA-3241-EM), Minnesota (FEMA-3242-EM), Nevada (FEMA-3243-EM), Idaho (FEMA-3244-EM), Nebraska (FEMA-3245-EM), Connecticut (FEMA-3246-EM), North Dakota (FEMA-3247-EM), California (FEMA-3248-EM), Wisconsin (FEMA-3249-EM), Ohio (FEMA-3250-EM), Maryland (FEMA-3251-EM), Massachusetts (FEMA-3252-EM), Montana (FEMA-3253-EM), Rhode Island (FEMA-3255-EM), Maine (FEMA-3256-EM), New Jersey (FEMA-3257-EM), New Hampshire (FEMA-3258-EM), New York (FEMA-3262-EM), and Delaware (FEMA-3263-EM).

R. David Paulison,
Under Secretary for Federal Emergency Management, and Director of FEMA.

[FR Doc. E6-17027 Filed 10-12-06; 8:45 am]

BILLING CODE 9110-10-P